FEDERAL MINE SAFETY AND HEALTH REVIEW COMMISSION

Sunshine Act Meetings; Cancellation

May 10, 2022.

The following Commission oral argument has been cancelled. No earlier announcement of the cancellation was possible. Commission oral argument in this matter will be rescheduled.

TIME AND DATE: 10:00 a.m., Thursday, May 12, 2022.

PLACE: The Richard V. Backley Hearing Room, Room 511, 1331 Pennsylvania Avenue NW, Suite 504 North, Washington, DC 20004 (enter from F Street entrance).

Note that workplace policies instituted to address the COVID-19 pandemic may restrict the ability of some participants to take part in the argument in-person. Those participants will join the argument through a videoconference involving all other participants who are appearing in-person.

STATUS: Open.

MATTERS TO BE CONSIDERED: The Commission will consider and act upon the following in open session: Peabody Midwest Mining, LLC and Butler employed by Peabody Mining Midwest Mining, LLC, Docket Nos. LAKE 2019-0023, 2019-0122, 2019-0361. (Issues include whether the Judge erred in concluding that the operator violated standards when it failed to immediately de-energize equipment when it encountered high methane levels, whether the violation was significant and substantial, and whether a supervisor was liable for individual penalties.).

Pursuant to the Commission's COVID-19 Workplace Safety Plan, in-person attendance shall be limited to persons participating in the oral argument process (e.g., Chair and Commissioners, parties and their representatives, Commission employees providing support for the meeting). Non-participating individuals may listen to the meeting by calling the phone number listed below in this notice.

Any person attending this oral argument who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO MEETING: 1-(866) 236-7472, Passcode: 678-100.

Authority: 5 U.S.C. 552b.

Dated: May 10, 2022.
Sarah L. Stewart,
Deputy General Counsel.

[FR Doc. 2022-10407 Filed 5-10-22; 4:15 pm]

BILLING CODE 6735-01-P